DEPARTMENT OF JUSTICE

Notice of Lodging of Proposed Consent Judgment Under the Resource Conservation and Recovery Act and Clean Air Act

On December 11, 2012 the Department of Justice lodged a proposed Consent Judgment with the United States District Court for the Eastern District of New York in the lawsuit entitled United States v. KTN Cleaners, Inc. d/b/a Enterprise Cleaners Inc., Civil Action No. 12-CV-6064 (FB)(LB).

Defendant KTN Cleaners, Inc. (“KTN”) owns and operates a large dry-cleaning facility in Long Island City, NY. The complaint seeks civil penalties and injunctive relief for KTN's violations of (a) Resource Conservation and Recovery Act regulations, (b) federally enforceable New York State hazardous waste regulations, and (c) Clean Air Act regulations applicable to dry cleaners. KTN violated these regulations in connection with the management at its facility of waste perchloroethylene, used fluorescent light bulbs, and the associated recordkeeping requirements. The Consent Judgment provides for KTN to implement injunctive relief, comprising continued compliance with the applicable regulations, and the submission of regular reports to EPA to document its compliance. The Consent Judgment also requires KTN to pay a civil penalty of $5,000, which is based upon a financial analysis indicating KTN's limited ability-to-pay.

The publication of this notice opens a period for public comment on the Consent Judgment. Comments should be addressed to the Assistant Attorney General, Environment and Natural Resources Division, and should refer to United States v. KTN Cleaners, Inc. d/b/a Enterprise Cleaners Inc., D.J. Ref. No. 90-7-1-09323. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department Web site: http://www.usdoj.gov/enrd/Consent_Decrees.html. We will provide a paper copy of the Consent Judgment upon written request and payment of reproduction costs. Please mail your request and payment to: Consent Decree Library, U.S. DOJ—ENRD, P.O. Box 7611, Washington, DC 20044-7611.

Please enclose a check or money order for $5.25 (25 cents per page reproduction cost) payable to the United States Treasury.

Ronald G. Gluck,
Assistant Section Chief, Environmental Enforcement Section, Environment and Natural Resources Division.

[FR Doc. 2012-30603 Filed 12-19-12; 8:45 am]

BILLING CODE 4410-15-P